ENVIRONMENTAL PROTECTION AGENCY

[EPA-HQ-OW-2010-0164; FRL-9152-2]

Guidance for Federal Land Management in the Chesapeake Bay Watershed

AGENCY: Environmental Protection Agency (EPA).

ACTION: Notice of availability.

SUMMARY: This notice announces the availability of a final Guidance for Federal Land Management in the Chesapeake Bay Watershed which EPA is publishing pursuant to Section 502 of Executive Order (EO) 13508 (“Chesapeake Bay Protection and Restoration”, published on May 12, 2009). This guidance will allow the federal government to lead the way in protecting the Bay and its watershed with the most effective tools and practices available to reduce water pollution from a variety of nonpoint sources, including agricultural lands, urban and suburban areas, forestry, riparian areas, septic systems, and hydromodification. This guidance is the first product under the Chesapeake Bay Executive Order to provide technical tools that will be needed to restore the Bay. Section 501 of the Executive Order directs federal agencies with ten or more acres within the Chesapeake Bay watershed to implement the Section 502 guidance as expeditiously as practicable and to the extent permitted by law.

FOR FURTHER INFORMATION CONTACT: Katie Flahive, USEPA, Office of Water, Office of Wetlands, Oceans and Watersheds, 1200 Pennsylvania Ave., NW., MC 4503T, Washington, DC; telephone number: (202) 566-1206; fax number: (202) 566-1437; e-mail: Flahive.Katie@epa.gov.

SUPPLEMENTARY INFORMATION:

I. General Information

Executive Order 13508, Chesapeake Bay Protection and Restoration, dated May 12, 2009 (74 FR 23099, May 15, 2009), directed EPA to prepare and publish a guidance for federal land management in the Chesapeake Bay watershed within one year. A draft of this guidance was released for public comment on March 24, 2010 (75 FR 91294, March 24). This final guidance incorporates revisions resulting from public comments, consideration by the federal agencies, and peer review comments.

Why was this guidance prepared?

The purpose of this guidance is to describe “proven cost-effective tools and practices that reduce water pollution” that are appropriate to restore and protect the Chesapeake Bay. Assuming that all necessary point source reductions are achieved and other needed restoration actions are taken, these tools and practices, when implemented broadly, aim to enable the Chesapeake Bay to be restored. While the primary audience for this document is Federal land managers, nonfederal land managers, including states, local governments, conservation districts, watershed organizations, developers, farmers and citizens may also find this guidance to be helpful.

In significant part, this guidance is being developed to offer solutions for implementation to meet specific Chesapeake Bay goals. EPA, in conjunction with other agencies, is currently developing Bay-wide pollutant reduction goals that will ultimately be used to establish total maximum daily loads (TMDL) under Section 303(d) of the Clean Water Act for the Chesapeake Bay watershed. The TMDL will be followed by the development of watershed implementation plans in 92 Bay sub-watersheds that will have had load and wasteload allocations assigned based on the TMDL and the Chesapeake Bay model. While the Section 502 guidance is required to be published before the TMDL is finalized, we expect that the TMDL and sub-watershed allocations will clarify that the nonpoint sources in the Chesapeake Bay watershed will need to be controlled, and be controlled well, in order to restore the Bay. This guidance should help land managers identify and select practices that should provide the needed level of control.

This guidance has chapters addressing the following categories of activity (excluding sources regulated as point sources): Agriculture; Urban and Suburban areas, including Turf; Decentralized Wastewater Treatment Systems; Forestry; Riparian Areas; and Hydromodification. Each chapter contains implementation measures that provide the framework for the chapter. These are intended to convey the essential actions that will need to be implemented in order to assure that the broad goals of the Chesapeake Bay Executive Order can be achieved. Each chapter also includes information on practices that can be used to achieve the goals; information on the effectiveness and costs of the practices; where relevant, cost savings or other economic/societal benefits (in addition to the pollutant reduction benefits) that derive from the implementation goals and/or practices; and copious references to other documents that provide additional information.

EPA emphasizes that this is not a regulatory document. At the same time it is important to realize that Section 501 of the Executive Order directs federal agencies with ten or more acres within the Chesapeake Bay watershed to implement the Section 502 guidance as expeditiously as practicable and to the extent permitted by law. While this guidance may at times refer to existing statutory and regulatory provisions that contain legally binding requirements, this document does not substitute for those provisions or regulations, nor is it a regulation itself. Thus, it does not impose legally binding requirements on EPA, states, or the public and might not apply to a particular situation according to the circumstances. EPA and state decision makers retain the discretion to adopt approaches to control nonpoint source pollution that differ from this guidance where appropriate, and EPA may change this guidance in the future.

How can I get copies of this document and other related information?

EPA Web site: EPA published the guidance on May 12, 2010, on our Web site at http://www.epa.gov/nps/chesbay502. On this Web site, the guidance can be downloaded in full or by chapter. Also available on this Web site are a summary of the suite of implementation measures described and a response to public and peer review comments.

Docket: EPA has established a docket for this action under Docket ID No. EPA-HQ-OW-2009-0761. The final EO 13508 Section 502 guidance document is available in the docket at http://www.regulations.gov. Assistance and tips for accessing the docket can be found at http://executiveorder.chesapeakebay.net. For additional information about the public docket, visit the EPA Docket Center homepage at http://www.epa.gov/epahome/dockets.htm. Publicly available docket materials are available electronically either through http://www.regulations.gov or in hard copy at the EPA Docket Center (EPA/DC), EPA West, Room 3334, 1301 Constitution Ave., NW., Washington, DC. The telephone number for this docket is 202-566-2426. The EPA Docket Center Public Reading Room is open from 8:30 a.m. to 4:30 p.m., Monday through Friday, excluding legal holidays. The telephone number for the Public Reading Room is (202) 566-1744. Certain material, such as copyrighted materials, will be publicly available only in hard copy at the Docket Center.

Dated: May 11, 2010.
Peter S. Silva,
Assistant Administrator.

[FR Doc. 2010-11693 Filed 5-14-10; 8:45 am]

BILLING CODE 6560-50-P